DEPARTMENT OF TRANSPORTATION

Federal Highway Administration

Environmental Impact Statement: Tooele County, UT

AGENCY: Federal Highway Administration (FHWA), DOT.

ACTION: Notice of Intent to Prepare an Environmental Impact Statement (EIS)

SUMMARY: FHWA is issuing this notice to advise the public that an Environmental Impact Statement will be prepared for proposed transportation improvements in the Tooele Valley area of Tooele County, Utah.

FOR FURTHER INFORMATION CONTACT: Anthony Sarhan, Area Engineer, Federal Highway Administration, 2520 West 4700 South, Suite 9A, Salt Lake City, UT 84118, Telephone: (801) 963-0182; or Daniel Young, Utah Department of Transportation (UDOT) Region 2 Project Manager, 2010 South 2760 West, Salt Lake City, UT 84104. Telephone: (801) 975-4819.

SUPPLEMENTARY INFORMATION: The FHWA, in cooperation with UDOT and Tooele County, will prepare an EIS on a proposal to address current and projected north-south traffic demand in the Tooele Valley area of Tooele County. The proposed project study area is bounded by Sheep Lane to the west, SR-36 to the east, the Tooele Army Depot (TEAD), SR-112, and Tooele City to the south, and I-80 to the north.

FHWA, UDOT, and Tooele County implemented an Environmental Assessment (EA), in May of 2007, in accordance with the National Environmental Policy Act (NEPA). During the EA, it was determined by the Joint-Lead Agencies to up-scope the study to an Environmental Impact Statement (EIS).

The EIS will conform to the environmental review process established in Section 6002 of the Safe, Accountable, Flexible, Efficient Transportation Equity Act: a Legacy for Users (SAFETEA-LU). The Section 6002 environmental review process requires the following activities: the identification and invitation of cooperating and participating agencies; the establishment of a coordination plan; and opportunities for additional agency and public comment on the project's purpose and need, alternatives and methodologies for determining impacts. Additionally, a public hearing following the release of the draft EIS will also be provided. Public notice advertisements and direct mailings will notify interested parties of the time and place of public meetings and the public hearing.

The EIS will take into account all aspects of the study previously completed during the Environmental Assessment process. Scoping letters describing the proposed action and soliciting comments were sent to appropriate Federal, State, and local agencies, and to organizations and citizens who have previously expressed, or who are known to have, an interest in this proposal. A public scoping meeting to which agencies and the public were invited was held on June 13, 2007 in Tooele County. The public, as well as Federal, State, and local agencies, were invited to participate in a project scoping process. From this participation a number of alternatives were developed and environmental issues and resources identified.

FHWA will continue to study and consider a reasonable range of alternatives which meet the project purpose and needs. These alternatives include (1) Taking no action; (2) Using alternative travel modes; (3) Upgrading and adding lanes to the existing roadway network including SR-36; and (4) Constructing a highway/expressway on a new location through the project study area.

To ensure that the full range of issues related to this proposed action are addressed and all significant issues are identified, comments and suggestions are invited from all interested agencies and parties. Cooperating and participating agency invitation letters will be sent out following the publication of the Notice of Intent. Comments and suggestions concerning this proposed action and the EIS should be directed to FHWA at the address provided above.

(Catalog of Federal Domestic Assistance Program Number 20-.205, Highway Planning and Construction. The regulations implementing Executive Order 12372 regarding intergovernmental consultation on Federal programs and activities apply to this program.)

Issued on: February 26, 2008.
Edward T. Woolford,
Environmental Program Manager, FHWA—Utah Division.

[FR Doc. E8-3981 Filed 2-29-08; 8:45 am]

BILLING CODE 4910-22-P